DEPARTMENT OF JUSTICE

Notice of Lodging of Consent Decree Under the Clean Water Act, the Comprehensive Environmental Response, Compensation, and Liability Act (“CERCLA”), and the Park System Resource Protection Act (“PSRPA”)

Under the policy set out at 28 CFR 50.7, notice is hereby given that on October 15, 2004, the United States lodged with the United States District Court for the Northern District of Iowa a proposed consent decree (“Consent Decree”) in the case of United States and State of Iowa v. City of Postville, Iowa, Civ. A. No. C04-1040-LRR. The Consent Decree pertains to the Publicly Owned Treatment Works (“POTW”) and the National Pollutant Discharge Elimination System (“NPDES”) Permit of the City of Postville, Iowa (“City”).

The Consent Decree would resolve claims in a Complaint filed, simultaneously with the lodging of the Consent Decree, by the United States and the State of Iowa (“State”) against the City for violations at its POTW of sections 301, 307 and 402 of the Clean Water Act (“CWA”), 33 U.S.C. 1311, 1317 and 1342, and the City's NPDES Permit. The Consent Decree would also resolve claims by the United States and the State for natural resource damages under Section 311(f) of the CWA, 33 U.S.C. 1321(f); section 107 of CERCLA, 42 U.S.C. 9607; and PSRPA, 16 U.S.C. 19jj. In addition, the Consent Decree would resolve CWA claims filed in a separate Complaint by an Iowa citizens' group, the Northeast Iowa Citizens for Clean Water (“NICCWA”).

The Consent Decree requires the City to perform injunctive relief including continuous monitoring and reporting of discharges into a nearby river, to pay civil penalties for CWA violations and monies for natural resource damages to the Unites States and the State, and to pay attorneys' fees and costs to NICCWA.

The Department of Justice will receive for a period of thirty (30) days from the date of this publication comments relating to the Consent Decree. Comments should be addressed to the Assistant Attorney General, Environment and Natural Resources Division, P.O. Box 7611, U.S. Department of Justice, Washington, DC 20044-7611, and should refer to United States and State of Iowa v. City of Postville, Iowa, DOJ Ref. No. 90-5-1-1-08078.

The Consent Decree may be examined at the offices of the United States Attorney, Northern District of Iowa, 401 First Street, SE., Room 400, Cedar Rapids, IA 52401, and at the offices of U.S. EPA Region 7, 901 North 5th Street, Kansas City, KS 66101.

During the public comment period, the Consent Decree may also be examined on the following Department of Justice Web site, http://www.usdoj.gov/enrd/open.html. A copy of the Consent Decree may also be obtained by mail from the Consent Decree Library, P.O. Box 7611, U.S. Department of Justice, Washington, DC 20044-7611, or by faxing or e-mailing a request to Tonia Fleetwood (tonia.fleetwood@usdoj.gov), fax no. (202) 415-0097, phone confirmation number (202) 514-1547. In requesting a copy from the Consent Decree Library, please enclose a check in the amount of $13.00 (25 cents per page reproduction cost) payable to the U.S. Treasury.

Robert E. Maher, Jr.,
Assistant Chief, Environmental Enforcement Section, Environment and Natural Resources Division.

[FR Doc. 04-24593 Filed 11-3-04; 8:45 am]

BILLING CODE 4410-15-M